DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2020, through November 30, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857.

The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Katherine Cummings and Jared Cummings on behalf of O.C., Newark, Ohio, Court of Federal Claims No: 20-1358V

2. Wisteria Peoples on behalf of S.P., Cleveland, Ohio, Court of Federal Claims No: 20-1507V

3. Annette Thompson, Grand Rapids, Michigan, Court of Federal Claims No: 20-1508V

4. James Kunysz and Kathy Kunysz on behalf of C.K., Mason, Ohio, Court of Federal Claims No: 20-1509V

5. Gregory Thaxton, Greenville, South Carolina, Court of Federal Claims No: 20-1510V

6. Betty Haxton, Anaheim, California, Court of Federal Claims No: 20-1512V

7. Stanton Allaben, Cashiers, North Carolina, Court of Federal Claims No: 20-1513V

8. Kimberly Starnes, Monroe, North Carolina, Court of Federal Claims No: 20-1514V

9. Abigail Stratton, Dyer, Indiana, Court of Federal Claims No: 20-1515V

10. Bryan Stone on behalf of K.S., Reynoldsburg, Ohio, Court of Federal Claims No: 20-1516V

11. Gloria Supernaw, Coalinga, California, Court of Federal Claims No: 20-1517V

12. Linda Potts, Dallas, Texas, Court of Federal Claims No: 20-1518V

13. Todd Irish, Clarkston, Michigan, Court of Federal Claims No: 20-1519V

14. Judy Rousseau, Maple Grove, Minnesota, Court of Federal Claims No: 20-1523V

15. Sarah Voeller on behalf of N.V., St. Louis Park, Missouri, Court of Federal Claims No: 20-1526V

16. Dru Elliott, Walnut Creek, California, Court of Federal Claims No: 20-1527V

17. Kristin Bassett, Fort Wayne, Indiana, Court of Federal Claims No: 20-1528V

18. Stacee Blake, Jenks, Oklahoma, Court of Federal Claims No: 20-1532V

19. Andrew Bowling, Kingsport, Tennessee, Court of Federal Claims No: 20-1536V

20. Wilma Phillips, Lithonia, Georgia, Court of Federal Claims No: 20-1537V

21. Helena McHale, Saratoga Springs, Florida, Court of Federal Claims No: 20-1538V

22. Margarita Gonzalez-Figueroa, Canovanas, Puerto Rico, Court of Federal Claims No: 20-1540V

23. Mary K. Johnson, Hart, Michigan, Court of Federal Claims No: 20-1541V

24. Jacqueline Pankey, Fayetteville, Georgia, Court of Federal Claims No: 20-1542V

25. Lalita Nandkumar, Waterbury, Connecticut, Court of Federal Claims No: 20-1543V

26. Ralph Balcom, Oregon City, Oregon, Court of Federal Claims No: 20-1544V

27. George Japaridze, Tucker, Georgia, Court of Federal Claims No: 20-1545V

28. Sofia Jeorgina Galvan, San Diego, California, Court of Federal Claims No: 20-1546V

29. Sandy M. Foukarakis, Point Pleasant Beach, New Jersey, Court of Federal Claims No: 20-1547V

30. Alisen Hughes, Red Bank, New Jersey, Court of Federal Claims No: 20-1548V

31. Jane Derego on behalf of Estate of Lawrence Derego, Deceased, Boston, Massachusetts, Court of Federal Claims No: 20-1549V

32. Virginia Aldridge, Boston, Massachusetts, Court of Federal Claims No: 20-1550V

33. Deborah Wharton, Loganville, Georgia, Court of Federal Claims No: 20-1551V

34. Travis Lutz, Knoxville, Iowa, Court of Federal Claims No: 20-1553V

35. Ambra Rankins, Lake Charles, Louisiana, Court of Federal Claims No: 20-1554V

36. John Courson, Lake Oswego, Oregon, Court of Federal Claims No: 20-1555V

37. Linda Jarosz, Perrysburg, Ohio, Court of Federal Claims No: 20-1556V

38. Valerie E. Wuebben, Yankton, South Dakota, Court of Federal Claims No: 20-1558V

39. Carla Carter on behalf of C.C., Annapolis, Maryland, Court of Federal Claims No: 20-1559V

40. Virginia Lamine, Green Bay, Michigan, Court of Federal Claims No: 20-1560V

41. Carolyn Parker, Washington, Missouri, Court of Federal Claims No: 20-1561V

42. Dawn Patterson, Altoona, Pennsylvania, Court of Federal Claims No: 20-1562V

43. Hayley Chang, Fairfax, Virginia, Court of Federal Claims No: 20-1564V

44. Lyndsey Langley, Missoula, Montana, Court of Federal Claims No: 20-1568V

45. Daniel Egan, M.D., Alpine, Utah, Court of Federal Claims No: 20-1569V

46. Christine Cossette, Boston, Massachusetts, Court of Federal Claims No: 20-1570V

47. Julie Cornell, Canton, Ohio, Court of Federal Claims No: 20-1571V

48. Rose Marie Donahue, Huntington Station, New York, Court of Federal Claims No: 20-1572V

49. Jennifer Zimmerman and Chad Zimmerman on behalf of C.Z., Middletown, Pennsylvania, Court of Federal Claims No: 20-1573V

50. Larry Kroninger, Troy, Missouri, Court of Federal Claims No: 20-1575V

51. Elizabeth Eshelman on behalf of A.E., Norman, Oklahoma, Court of Federal Claims No: 20-1576V

52. Travis Childress, Winston-Salem, North Carolina, Court of Federal Claims No: 20-1577V

53. Dianne Leach, Sanford, Florida, Court of Federal Claims No: 20-1578V

54. Towanda Banks, Baton Rouge, Louisiana, Court of Federal Claims No: 20-1580V

55. Jenna Roberts, Fort Campbell, Kentucky, Court of Federal Claims No: 20-1581V

56. Natalie C. Espinoza, Santa Barbara, California, Court of Federal Claims No: 20-1582V

57. Susan Hodgin, Nashville, Tennessee, Court of Federal Claims No: 20-1583V

58. David Carl Letner, Lisbon, Ohio, Court of Federal Claims No: 20-1584V

59. Michael Cannon, Jr. on behalf of Estate of Katie Cannon, Deceased, Wyandotte, Michigan, Court of Federal Claims No: 20-1586V

60. Louis Ciminieri, Boston, Massachusetts, Court of Federal Claims No: 20-1587V

61. Willie L. Carter, Seattle, Washington, Court of Federal Claims No: 20-1588V

62. Cherish Moore, Plattsburgh, New York, Court of Federal Claims No: 20-1589V

63. Brent Stamm, Columbus, Ohio, Court of Federal Claims No: 20-1590V

64. Geraldine Mavin, Allentown, Pennsylvania, Court of Federal Claims No: 20-1591V

65. Amy Tappendorf, Des Moines, Iowa, Court of Federal Claims No: 20-1592V

66. Seth M. Niesen, Seattle, Washington, Court of Federal Claims No: 20-1593V

67. Joanne Davies, New York, New York, Court of Federal Claims No: 20-1595V

68. Meloni Sue DeVries, Bend, Oregon, Court of Federal Claims No: 20-1596V

69. Keith Pickett, Stuttgart, Arkansas, Court of Federal Claims No: 20-1598V

70. Eddie Darrell Alexander, II, Los Angeles, California, Court of Federal Claims No: 20-1599V

71. Cheri Brewster, Indianapolis, Indiana, Court of Federal Claims No: 20-1604V

72. Sherran Lynn Wasserman, Toccoa, Georgia, Court of Federal Claims No: 20-1605V

73. Amy Laws, Columbus, Ohio, Court of Federal Claims No: 20-1606V

74. Laura Liebenrood on behalf of A.H., Collierville, Tennessee, Court of Federal Claims No: 20-1607V

75. Julia Marino, Morristown, New Jersey, Court of Federal Claims No: 20-1608V

76. Jennifer Grow, Glenview, Illinois, Court of Federal Claims No: 20-1609V

77. Kaitlin McKenzie, Morgantown, West Virginia, Court of Federal Claims No: 20-1610V

78. Rita A. Parks, Rochester, New York, Court of Federal Claims No: 20-1611V

79. Reine Carre, Austin, Texas, Court of Federal Claims No: 20-1613V

80. Raena Todd, Utica, New York, Court of Federal Claims No: 20-1615V

81. Cynthia Cole, Williamsville, New York, Court of Federal Claims No: 20-1616V

82. Christine Davidson, Manchester, Ohio, Court of Federal Claims No: 20-1617V

83. Lois Bejma, Mt. Vernon, Illinois, Court of Federal Claims No: 20-1619V

84. Hau'oli Makaonaonakupana L. Sproat-Lancaster, Grand Junction, Colorado, Court of Federal Claims No: 20-1620V

85. Kimerley Hilbrich, Boston, Massachusetts, Court of Federal Claims No: 20-1621V

86. Yashica Tuttle and M.H. on behalf of Marcus Hairston, Lexington, North Carolina, Court of Federal Claims No: 20-1622V

87. D. Douglas Rice, Sioux City, Iowa, Court of Federal Claims No: 20-1623V

88. Robin England, Knoxville, Tennessee, Court of Federal Claims No: 20-1625V

89. Andrea C. Everhart, Winston-Salem, North Carolina, Court of Federal Claims No: 20-1626V

90. Linda Cox, Boston, Massachusetts, Court of Federal Claims No: 20-1628V

91. Jude Gaydos, Allentown, Pennsylvania, Court of Federal Claims No: 20-1629V

92. Barbara Mills, London, Kentucky, Court of Federal Claims No: 20-1630V

93. Courtney Kunysz, Mason, Ohio, Court of Federal Claims No: 20-1633V

94. Dorris Lund, Kokomo, Indiana, Court of Federal Claims No: 20-1635V

95. Tracee Gleichner, Boston, Massachusetts, Court of Federal Claims No: 20-1636V

96. Jennifer Walton, Butler, Pennsylvania, Court of Federal Claims No: 20-1637V

97. Jillian Merrill, Indianapolis, Indiana, Court of Federal Claims No: 20-1638V

98. Cynde Wall, Guthrie, Oklahoma, Court of Federal Claims No: 20-1639V

99. Anita Delaney, Jackson, Tennessee, Court of Federal Claims No: 20-1640V

100. William Plummer, Jr., San Dimas, California, Court of Federal Claims No: 20-1641V

101. Maria Quinones, Carmel, Indiana, Court of Federal Claims No: 20-1642V

102. Margo Davis, Galveston, Texas, Court of Federal Claims No: 20-1643V

103. Cindy Stuart, Lubbock, Texas, Court of Federal Claims No: 20-1644V

104. Tina Lekas, Allison Park, Pennsylvania, Court of Federal Claims No: 20-1645V

105. Jeffrey Braun, Colorado Springs, Colorado, Court of Federal Claims No: 20-1646V

106. Janis Geist, Wichita, Kansas, Court of Federal Claims No: 20-1647V

107. Rhonda Hernandez, Nashville, Tennessee, Court of Federal Claims No: 20-1648V

108. Andrew Peterson, Oakland Park, Florida, Court of Federal Claims No: 20-1649V

109. Jennifer Lindsay, Clackamas, Oregon, Court of Federal Claims No: 20-1650V

110. April Parsons, Santa Rosa, California, Court of Federal Claims No: 20-1651V

111. Lori Seawel, Boston, Massachusetts, Court of Federal Claims No: 20-1652V

112. Bruce Edmonds, Boston, Massachusetts, Court of Federal Claims No: 20-1653V

113. Mallory J. Spiker, Pittsburgh, Pennsylvania, Court of Federal Claims No: 20-1657V

114. David Kim, Lawrenceville, Georgia, Court of Federal Claims No: 20-1658V

115. Melody Gerry, Madison, Wisconsin, Court of Federal Claims No: 20-1659V

116. Janis Berson, Boston, Massachusetts, Court of Federal Claims No: 20-1660V

117. Tammy Sweeney, Greensboro, North Carolina, Court of Federal Claims No: 20-1661V

118. Eric Mates, Lyons, New Jersey, Court of Federal Claims No: 20-1662V

119. Lisa Eisman, Norwalk, Connecticut, Court of Federal Claims No: 20-1664V

120. William Ranks, Camp Verde, Arizona, Court of Federal Claims No: 20-1665V

121. Nancy Richmond, Greenville, North Carolina, Court of Federal Claims No: 20-1666V

122. Carol Kempkes, Des Moines, Iowa, Court of Federal Claims No: 20-1667V

123. Anna-Lis Seevers, Big Rapids, Michigan, Court of Federal Claims No: 20-1669V

124. Lisa Jackson, Englewood, Ohio, Court of Federal Claims No: 20-1670V

125. Marilyn Duncan, Burkesville, Kentucky, Court of Federal Claims No: 20-1671V

126. Mary Brown, Frankenmuth, Michigan, Court of Federal Claims No: 20-1672V

127. Nina Watkins, Upper Marlboro, Maryland, Court of Federal Claims No: 20-1673V

128. Thomas Ross, Olmsted Township, Ohio, Court of Federal Claims No: 20-1674V

129. Michele Hunter, Torrington, Connecticut, Court of Federal Claims No: 20-1675V

130. Jacqueline Bowling, Pikeville, Kentucky, Court of Federal Claims No: 20-1676V

131. Janet Sincebaugh, Williamsville, New York, Court of Federal Claims No: 20-1677V

132. Stacey Neves on behalf of I. N., New York, New York, Court of Federal Claims No: 20-1678V

133. Elisabeth Preitauer, Wichita Falls, Texas, Court of Federal Claims No: 20-1679V

134. Dominick Clemente, Brooklyn, New York, Court of Federal Claims No: 20-1680V

135. Theresa Jackson, Boston, Massachusetts, Court of Federal Claims No: 20-1681V

136. Charles Edwards, Lumberton, Texas, Court of Federal Claims No: 20-1682V

137. Charles Edwards, Lumberton, Texas, Court of Federal Claims No: 20-1683V

138. Barbara Lytes-Williams, Batesburg, South Carolina, Court of Federal Claims No: 20-1684V

139. Yaneth Garcia on behalf of A.M., Williamsville, New York, Court of Federal Claims No: 20-1685V

140. Frances Kraemer, Boston, Massachusetts, Court of Federal Claims No: 20-1687V

141. Jane Robinson, Boston, Massachusetts, Court of Federal Claims No: 20-1688V

142. Pavlo Chyshkevych and Nataliya Chyshkevych on behalf of R.C., Phoenix, Arizona, Court of Federal Claims No: 20-1689V

143. Janet Burgo, Atlanta, Georgia, Court of Federal Claims No: 20-1691V

144. Reginald Holmes, Clermont, Florida, Court of Federal Claims No: 20-1693V

145. Jean Cefalu, New Orleans, Louisiana, Court of Federal Claims No: 20-1694V

146. Joel Nichols, North Billerica, Massachusetts, Court of Federal Claims No: 20-1695V

147. Paul Wooters, Southlake, Texas, Court of Federal Claims No: 20-1696V

148. Deborah Liter, Madison, Indiana, Court of Federal Claims No: 20-1697V

149. Carrie Parent, Myrtle Beach, South Carolina, Court of Federal Claims No: 20-1698V

150. Charles Stella, New York, New York, Court of Federal Claims No: 20-1699V

151. Pamela Havice, Boston, Massachusetts, Court of Federal Claims No: 20-1701V

152. Anita Hall Darroca, Indianapolis, Indiana, Court of Federal Claims No: 20-1702V

153. Regis Grice, Waupun, Wisconsin, Court of Federal Claims No: 20-1703V

154. Stephen Vaccaro, Boston, Massachusetts, Court of Federal Claims No: 20-1704V

155. Bill Tackett, Jr., Lutz, Florida, Court of Federal Claims No: 20-1705V

156. Shakeyla Barber, Bronx, New York, Court of Federal Claims No: 20-1706V

157. Teresa Davis, Boston, Massachusetts, Court of Federal Claims No: 20-1707V

158. Clifford Gray, Antioch, Tennessee, Court of Federal Claims No: 20-1708V

159. Barbara Benson, Dresher, Pennsylvania, Court of Federal Claims No: 20-1709V

160. Nancy Dubrow, Beverly Hills, California, Court of Federal Claims No: 20-1710V

[FR Doc. 2020-28548 Filed 12-23-20; 8:45 am]

BILLING CODE 4165-15-P